DEPARTMENT OF ENERGY

Federal Energy Regulatory Commission

[Project No. 2493-084-WA]

Puget Sound Energy, Inc.; Notice of Availability of Environmental Assessment

February 27, 2009.

In accordance with the National Environmental Policy Act of 1969 and the Federal Energy Regulatory Commission's (Commission) regulations, 18 CFR part 380 (Order No. 486, 52 FR 47879), the Office of Energy Projects has reviewed the application for an amendment of license for the Snoqualmie Falls Hydroelectric Project, located on the Snoqualmie River in the City of Snoqualmie, King County, Washington, and has prepared an environmental assessment (EA) on the proposed amendment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Any comments should be filed within 30 days from the issuance date of this notice, and should be addressed to the Secretary, Federal Energy Regulatory Commission, 888 First Street, NE., Room 1-A, Washington, DC 20426. Please reference the project name and project number (Snoqualmie Falls Hydroelectric Project No. 2493-084) on all comments. Comments may be filed electronically via the Internet in lieu of paper. The Commission strongly encourages electronic filings. See 18 CFR 385.2001(a)(1)(iii) and the instructions on the Commission's Web site under the “eFiling” link. For further information, contact Linda Stewart at (202) 502-6680.

Kimberly D. Bose,
Secretary.

[FR Doc. E9-4724 Filed 3-4-09; 8:45 am]

BILLING CODE 6717-01-P